NUCLEAR REGULATORY COMMISISON

[NRC-2015-0076]

Privacy Act of 1974; Republication of Systems of Records Notices; Correction

AGENCY: Nuclear Regulatory Commission.

ACTION: Republication of systems of records notices; request for comment; correction.

SUMMARY: The U.S. Nuclear Regulatory Commission (NRC) is correcting a notice that was published in the Federal Register (FR) on March 30, 2015, regarding republication of systems of records notices. This action is necessary to correct the Docket ID.

DATES: The correction is effective April 3, 2015.

ADDRESSES: Please refer to Docket ID NRC-2015-0076 when contacting the NRC about the availability of information regarding this document. You may obtain publicly-available information related to this document using any of the following methods:

• Federal Rulemaking Web site: Go to http://www.regulations.gov and search for Docket ID NRC-2015-0076. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Sally Hardy, Office of Information Services, U.S. Nuclear Regulatory Commission, Washington, DC 20555-0001, telephone: 301-415-5607; email: Sally.Hardy@nrc.gov.

SUPPLEMENTARY INFORMATION: In the FR of March 30, 2015, in FR Doc. 2015-07186, on page 16924, in the heading and in the second, sixth, and seventh paragraphs of the second column, and in the second paragraph of the third column, “NRC-2015-0072” is corrected to read “NRC-2015-0076.”

Dated at Rockville, Maryland, this 30th day of March, 2015.
For the Nuclear Regulatory Commission.
Cindy Bladey,
Chief, Rules, Announcements, and Directives Branch, Division of Administrative Services, Office of Administration.

[FR Doc. 2015-07703 Filed 4-2-15; 8:45 am]

BILLING CODE 7590-01-P